SMALL BUSINESS ADMINISTRATION

[Disaster Declaration #15927 and #15928; NEBRASKA Disaster Number NE-00074]

Presidential Declaration Amendment of a Major Disaster for Public Assistance Only for the State of NEBRASKA

AGENCY: U.S. Small Business Administration.

ACTION: Amendment 4.

SUMMARY: This is an amendment of the Presidential declaration of a major disaster for Public Assistance Only for the State of NEBRASKA (FEMA-4420-DR), dated 04/05/2019.

Incident: Severe Winter Storm, Straight-line Winds, and Flooding.

Incident Period: 03/09/2019 through 04/01/2019.

DATES: Issued on 06/28/2019.

Physical Loan Application Deadline Date: 06/04/2019.

Economic Injury (EIDL) Loan Application Deadline Date: 01/06/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of NEBRASKA, dated 04/05/2019, is hereby amended to include the following areas as adversely affected by the disaster.

Primary Counties: Cherry, Nuckolls, Scotts Bluff, and the Omaha Tribe of Nebraska, Sac and Fox Nation of Missouri in Kansas and Nebraska, Santee Sioux Nation, and the Winnebago Tribe of Nebraska within the designated counties.

All other information in the original declaration remains unchanged.

(Catalog of Federal Domestic Assistance Number 59008)

Rafaela Monchek,
Acting Associate Administrator for Disaster Assistance.

[FR Doc. 2019-14657 Filed 7-9-19; 8:45 am]

BILLING CODE 8026-03-P